DEPARTMENT OF ENERGY

Federal Energy Regulatory Commission

[Docket No. RP99-301-007]

ANR Pipeline Company; Notice of Proposed Changes in FERC Gas Tariff

October 5, 2000.

Take notice that on October 2, 2000, ANR Pipeline Company (ANR) tendered for filing as part of its FERC Gas Tariff, Second Revised Volume No. 1, the following tariff sheets proposed to become effective October 1, 2000:

Original Sheet No. 14Q

ANR is filing the attached tariff sheet to reflect the implementation of a negotiated rate agreement with Anadarko Energy Services Company for service under Rate Schedule PTS-3. Anadarko's new agreement will be effective October 1, 2000, and will continue through the life of the reserve underlying such agreement. ANR requests that the Commission grant ANR any waivers of the Commission's regulations which are necessary in order to make this tariff sheet effective as of October 1, 2000, and to the extent necessary, moves pursuant to 18 CFR 154.7(a)(9) for the tariff sheet to go into effect on said date. Additionally, ANR requests all such further relief as is appropriate.

ANR states that a copy of this filing is being mailed to the affected shipper and to each of ANR's FERC Gas Tariff, Second Revised Volume No. 1 and Original Volume No. 2 customers, and interested State Commissions.

Any person desiring to protest said filing should file a protest with the Federal Energy Regulatory Commission, 888 First Street, N.E., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-26125 Filed 10-11-00; 8:45 am]

BILLING CODE 6717-01-M